DEPARTMENT OF HOMELAND SECURITY

Federal Emergency Management Agency

[Docket ID FEMA-2025-0002; Internal Agency Docket No. FEMA-B-2564]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Online location of letter of map revision | Date of modification | Community No.
Arizona:
Maricopa | City of Surprise (24-09-0569P) | The Honorable Kevin Sartor, Mayor, City of Surprise, 16000 North Civic Center Plaza, Surprise, AZ 85374 | City Hall, 16000 North Civic Center Plaza, Surprise, AZ 85374 | https://msc.femagov/portal/advanceSearch | Dec. 11, 2025 | 040053
Pima | Town of Marana (24-09-0485P) | The Honorable Jon Post, Mayor, Town of Marana, 11555 West Civic Center Drive, Marana, AZ 85653 | Development Services Department, Ed Honea Marana Municipal Complex, 11555 West Civic Center Drive, Marana, AZ 85653 | https://msc.femagov/portal/advanceSearch | Nov. 28, 2025 | 040118
Pima | Town of Marana (24-09-1054P) | The Honorable Jon Post, Mayor, Town of Marana, 11555 West Civic Center Drive, Marana, AZ 85653 | Development Services Department, Ed Honea Marana Municipal Complex, 11555 West Civic Center Drive, Marana, AZ 85653 | https://msc.femagov/portal/advanceSearch | Nov. 28, 2025 | 040118
Pinal | City of Maricopa (24-09-0371P) | The Honorable Nancy Smith, Mayor, City of Maricopa, 39700 West Civic Center Plaza, Maricopa, AZ 85138 | City Hall, 39700 West Civic Center Plaza, Maricopa, AZ 85138 | https://msc.femagov/portal/advanceSearch | Dec. 8, 2025 | 040052
California:
Riverside | City of Corona (24-09-0818P) | The Honorable Jim Steiner, Mayor, City of Corona, 400 South Vicentia Avenue, Corona, CA 92882 | Public Works Department, 400 South Vicentia Avenue, Corona, CA 92882 | https://msc.femagov/portal/advanceSearch | Nov. 27, 2025 | 060250
Riverside | City of Perris (25-09-0435P) | The Honorable Michael Vargas, Mayor, City of Perris, 101 North D Street, Perris, CA 92570 | City Hall, 101 North D Street, Perris, CA 92570 | https://msc.femagov/portal/advanceSearch | Dec. 5, 2025 | 060258
Riverside | City of Riverside (25-09-0433P) | The Honorable Patricia Lock Dawson, Mayor, City of Riverside, 3900 Main Street, Riverside, CA 92522 | City Hall, 3900 Main Street, Riverside, CA 92522 | https://msc.femagov/portal/advanceSearch | Dec. 8, 2025 | 060260
Riverside | Unincorporated areas of Riverside County (24-09-0818P) | The Honorable V. Manuel Perez, Chair, Riverside County Board of Supervisors, 4080 Lemon Street, 5th Floor Riverside, CA 92501 | Riverside County, Flood Control and Water Conservation District, 1995 Market Street, Riverside, CA 92501 | https://msc.femagov/portal/advanceSearch | Nov. 27, 2025 | 060245
Riverside | Unincorporated areas of Riverside County (24-09-0975P) | The Honorable V. Manuel Perez, Chair, Riverside County Board of Supervisors, 4080 Lemon Street, 5th Floor Riverside, CA 92501 | Riverside County, Flood Control and Water Conservation District, 1995 Market Street, Riverside, CA 92501 | https://msc.femagov/portal/advanceSearch | Dec. 3, 2025 | 060245
Riverside | Unincorporated areas of Riverside County (25-09-0640P) | The Honorable V. Manuel Perez, Chair, Riverside County Board of Supervisors, 4080 Lemon Street, 5th Floor Riverside, CA 92501 | Riverside County, Flood Control and Water Conservation District, 1995 Market Street, Riverside, CA 92501 | https://msc.femagov/portal/advanceSearch | Dec. 2, 2025 | 060245
San Diego | City of Poway (25-09-0759X) | Chris Hazeltine, City Manager, City of Poway, 13325 Civic Center Drive, Poway, CA 92064 | City Hall, 13325 Civic Center Drive, Poway, CA 92064 | https://msc.femagov/portal/advanceSearch | Nov. 7, 2025 | 060702
San Diego | City of San Diego (25-09-0759X) | The Honorable Todd Gloria, Mayor, City of San Diego, 202 C Street, 11th Floor San Diego, CA 92101 | City Hall, 202 C Street, 11th Floor San Diego, CA 92101 | https://msc.femagov/portal/advanceSearch | Nov. 7, 2025 | 060295
San Diego | City of San Marcos (25-09-0243P) | The Honorable Rebecca Jones, Mayor, City of San Marcos, 1 Civic Center Drive, San Marcos, CA 92069 | City Hall, 1 Civic Center Drive, San Marcos, CA 92069 | https://msc.femagov/portal/advanceSearch | Nov. 17, 2025 | 060296
San Diego | Unincorporated areas of San Diego County (25-09-0032P) | Ebony N. Shelton, Chief Administrative Officer, County of San Diego, 1600 Pacific Highway, Room 209, San Diego, CA 92101 | San Diego County, Flood Control Office, 5510 Overland Avenue, San Diego, CA 92123 | https://msc.femagov/portal/advanceSearch | Dec. 5, 2025 | 060284
Colorado:
Arapahoe | City of Littleton (24-08-0417P) | The Honorable Kyle Schlachter, Mayor, City of Littleton, 2255 West Berry Avenue, Littleton, CO 80120 | Public Works Department, 2255 West Berry Avenue, Littleton, CO 80120 | https://msc.femagov/portal/advanceSearch | Nov. 21, 2025 | 080017
Delta | Town of Paonia (24-08-0399P) | The Honorable Paige Smith, Mayor, Town of Paonia, 214 Grand Avenue, Paonia, CO 81428 | Town Hall, 214 Grand Avenue, Paonia, CO 81428 | https://msc.femagov/portal/advanceSearch | Nov. 28, 2025 | 080045
Delta | Unincorporated areas of Delta County (24-08-0399P) | The Honorable Wendell Koontz, Chair, Delta County Board of Commissioners, 501 Palmer Street, Suite 227, Delta, CO 81416 | Delta County Courthouse, 501 Palmer Street, Delta, CO 81416 | https://msc.femagov/portal/advanceSearch | Nov. 28, 2025 | 080041
Douglas | City of Lone Tree (24-08-0556P) | The Honorable Marissa Harmon, Mayor, City of Lone Tree, 9220 Kimmer Drive, Suite 100, Lone Tree, CO 80124 | 9220 Kimmer Drive, Suite 100 Lone Tree, CO 80124 | https://msc.femagov/portal/advanceSearch | Dec. 19, 2025 | 080319
Douglas | Unincorporated areas of Douglas County (24-08-0556P) | The Honorable Abe Laydon, Chair, Douglas County Board of Commissioners, 100 3rd Street, Castle Rock, CO 80104 | Douglas County Public Works Department, 100 3rd Street, Castle Rock, CO 80104 | https://msc.femagov/portal/advanceSearch | Dec. 19, 2025 | 080049
Routt | Town of Hayden (24-08-0444P) | The Honorable Ryan Banks, Mayor, Town of Hayden, P.O. Box 190, Hayden, CO 81639 | Town Hall, 178 West Jefferson Hayden, CO 81639 | https://msc.femagov/portal/advanceSearch | Nov. 27, 2025 | 080157
Routt | Unincorporated areas of Routt County (24-08-0444P) | The Honorable Sonja Macys, Chair, Routt County Board of Commissioners, 522 Lincoln Avenue, Suite #30 Steamboat Springs, CO 80487 | Routt County Building Department, 136 6th Street, Suite 200, Steamboat Springs, CO 80487 | https://msc.femagov/portal/advanceSearch | Nov. 27, 2025 | 080156
Yuma | City of Wray (24-08-0017P) | The Honorable Chad Deyle, Mayor, City of Wray, 245 West 4th Street, Wray, CO 80758 | Natural and Technological Hazards Division, FEMA Denver Federal Center, Building 710 Lakewood, CO 80226 | https://msc.femagov/portal/advanceSearch | Nov. 6, 2025 | 0 080191
Yuma | Unincorporated areas of Yuma County (24-08-0017P) | The Honorable Adam Gates, Chair, Yuma County Board of Commissioners, 310 Ash Street, Suite A, Wray, CO 80758 | Yuma County Natural and Technological Hazards Division, FEMA Denver Federal Center, Building 710, Lakewood, CO 80226 | https://msc.femagov/portal/advanceSearch | Nov. 6, 2025 | 080291
Idaho:
Ada | City of Meridian (24-10-0611P) | The Honorable Robert Simison, Mayor, City of Meridian, 33 East Broadway Avenue, Meridian, ID 83642 | City Hall, 33 East Broadway Avenue, Meridian, ID 83642 | https://msc.femagov/portal/advanceSearch | Nov. 12, 2025 | 160180
Ada | City of Star (24-10-0427P) | The Honorable Trevor A. Chadwick, Mayor, City of Star, 10769 West State Street, Star, ID 83669 | City Hall, 10769 West State Street, Star, ID 83669 | https://msc.femagov/portal/advanceSearch | Dec. 17, 2025 | 160236
Ada | Unincorporated areas of Ada County (24-10-0427P) | The Honorable Rod Beck, Chair, Ada County Board of Commissioners, 200 West Front Street, 3rd Floor, Boise, ID 83702 | Ada County Development Services, 200 West Front Street, Boise, ID 83702 | https://msc.femagov/portal/advanceSearch | Dec. 17, 2025 | 160001
Bingham | Unincorporated areas of Bingham County (24-10-0118P) | The Honorable Whitney Manwaring, Chair, Bingham County Commissioners, 501 North Maple Street, Suite 204, Blackfoot, ID 83221 | Bingham County Courthouse, 501 North Maple Street, Blackfoot, ID 83221 | https://msc.femagov/portal/advanceSearch | Dec. 22, 2025 | 160018
Canyon | Unincorporated areas of Canyon County (24-10-0427P) | The Honorable Brad Holton, Chair, Canyon County Board of Commissioners, 1115 Albany Street, Room 101, Caldwell, ID 83605 | Canyon County Administration Building, 111 North 11th Avenue, Room 310 Caldwell, ID 83605 | https://msc.femagov/portal/advanceSearch | Dec. 17, 2025 | 160208
Custer | City of Stanley (24-10-0674P) | The Honorable Steve Botti, Mayor, City of Stanley, P.O. Box 53, Stanley, ID 83278 | City Hall, 510 Eva Falls Avenue, Stanley, ID 83278 | https://msc.femagov/portal/advanceSearch | Dec. 19, 2025 | 160054
Custer | Unincorporated areas of Custer County (24-10-0674P) | The Honorable Randy Corgatelli, Chair, Custer County Board of Commissioners, P.O. Box 385, Challis, ID 83226 | Custer County Courthouse, 801 East Main Avenue, Challis, ID 83226 | https://msc.femagov/portal/advanceSearch | Dec. 19, 2025 | 160211
Lemhi | City of Salmon (24-10-0095P) | The Honorable Todd Nelson, Mayor, City of Salmon, 200 Main Street, Salmon, ID 83467 | City Hall, 200 Main Street, Salmon, ID 83467 | https://msc.femagov/portal/advanceSearch | Nov. 7, 2025 | 160093
Lemhi | Unincorporated areas of Lemhi County (24-10-0095P) | The Honorable Lynn Bowerman, Chair, Lemhi County Board of County Commissioners, 206 Courthouse Drive, Salmon, ID 83467 | Lemhi County and City Building Department, 200 Fulton Street, Suite 204, Salmon, ID 83467 | https://msc.femagov/portal/advanceSearch | Nov. 7, 2025 | 160092
Nevada:
Clark | City of Henderson (24-09-0348P) | Stephanie Garcia-Vause, City Manager, City of Henderson, 240 South Water Street, Henderson, NV 89015 | City Hall, 240 South Water Street, Henderson, NV 89015 | https://msc.femagov/portal/advanceSearch | Nov. 28, 2025 | 320005
Douglas | Unincorporated areas of Douglas County (24-09-0865P) | The Honorable Sharla Hales, Chair, Douglas County Board of Commissioners, P.O. Box 218, Minden, NV 89423 | Douglas County Building Department, 1594 Esmeralda Avenue, Minden, NV 89423 | https://msc.femagov/portal/advanceSearch | Nov. 27, 2025 | 320008
Oregon:
Deschutes | Unincorporated areas of Deschutes County (24-10-0255P) | Nick Lelack Deschutes, County Administrator, P.O. Box 6005, Bend, OR 97708 | Deschutes County Community Development, 117 Northwest Lafayette Avenue, Bend, OR 97703 | https://msc.femagov/portal/advanceSearch | Dec. 12, 2025 | 410055
Linn | Unincorporated areas of Linn County (24-10-0182P) | The Honorable Roger Nyquist, Chair, Linn County Board of Commissioners, P.O. Box 100, Albany, OR 97321 | Linn County Planning & Building Department, 300 Southwest 4th Avenue, Room 114, Albany, OR 97321 | https://msc.femagov/portal/advanceSearch | Dec. 5, 2025 | 410136
South Dakota: Meade | City of Sturgis (24-08-0096P) | The Honorable Kevin Forrester, Mayor, City of Sturgis, 1040 Harley-Davidson Way, Sturgis, SD 57785 | City Hall, 1040 Harley-Davidson Way, Sturgis, SD 57785 | https://msc.femagov/portal/advanceSearch | Nov. 14, 2025 | 460055

[FR Doc. 2025-19210 Filed 10-1-25; 8:45 am]

BILLING CODE 9110-12-P